ENVIRONMENTAL PROTECTION AGENCY

[ER-FRL-9013-9]

Environmental Impact Statements; Notice Of Availability

Responsible Agency: Office of Federal Activities, General Information (202) 564-7146 or http://www.epa.gov/compliance/nepa/.

Weekly receipt of Environmental Impact Statements

Filed 03/03/2014 Through 03/07/2014

Pursuant to 40 CFR 1506.9.

Notice:

Section 309(a) of the Clean Air Act requires that EPA make public its comments on EISs issued by other Federal agencies. EPA's comment letters on EISs are available at: http://www.epa.gov/compliance/nepa/eisdata.html.

EIS No. 20140062, Final EIS, NPS, CA, Tuolumne Wild and Scenic River Final Comprehensive Management Plan, Review Period Ends: 04/14/2014, Contact: Kathleen Morse 209-379-1110.

EIS No. 20140063, Draft EIS, BLM, NM, San Juan Basin Energy Connect Project, Comment Period Ends: 04/28/2014, Contact: Marcy Romero 505-564-7600.

EIS No. 20140064, Draft Supplement, USFS, MT, Beaverhead-Deerlodge National Forest Land and Resource Management Plan to Comply with a District of Montana Court Order (Temporary Roads), Comment Period Ends: 06/12/2014, Contact: Jan Bowey 406-842-5432.

EIS No. 20140065, Draft EIS, USFS, OR, Proposed Revised Land Management Plans for the Malheur, Umatilla, and Wallowa-Whitman National Forests, Comment Period Ends: 06/16/2014, Contact: Sabrina Stadler 541-523-1264.

EIS No. 20140066, Final EIS, BLM, NV, Arturo Mine Project, Review Period Ends:04/14/2014, Contact: John Daniel 775-753-0277.

EIS No. 20140067, Final EIS, USFS, ND, North Billings County Range Allotment Management Plan Revision, Review Period Ends: 04/28/2014, Contact: Nickole Dahl 701-227-7830.

EIS No. 20140068, Draft Supplement, USFS, UT, Leasing and Underground Mining of the Greens Hollow Federal Coal Lease Tract UTU-102, Comment Period Ends: 04/28/2014, Contact: Marianne Orton 435-896-1090.

EIS No. 20140069, Draft EIS, USFS, MT, Divide Travel Plan, Helena National Forest, Comment Period Ends: 04/28/2014, Contact: Heather DeGeest 406-449-5201.

EIS No. 20140070, Final EIS, NASA, CA, Proposed Demolition and Environmental Cleanup Activities at Santa Susana Field Laboratory, Review Period Ends: 04/14/2014, Contact: Allen Elliott 256-544-0662.

EIS No. 20140071, Draft EIS, NRCS, UT, Green River Diversion Rehabilitation Project, Comment Period Ends: 04/30/2014, Contact: Bronson Smart 801-524-4559.

EIS No. 20140072, Final EIS, NPS, NC, Fort Raleigh National Historic Site, General Management Plan, Review Period Ends: 04/14/2014, Contact: David Libman 404-507-5701.

Amended Notices

EIS No. 20140054, Revised Draft EIS, USFS, CA, Harris Vegetation Management Project, Comment Period Ends: 04/21/2014, Contact: Emelia H. Barnum 530-926-4511 ext. 1600.

Revision to FR Notice Published 03/07/2014; Correcting Comment Period from 4/25/2014 to 4/21/2014.

Dated: March 11, 2014.
Dawn Roberts,
Management Analyst, Office of Federal Activities.

[FR Doc. 2014-05674 Filed 3-13-14; 8:45 am]

BILLING CODE 6560-50-P